DEPARTMENT OF HEALTH AND HUMAN SERVICES

National Institutes of Health

Center for Scientific Review; Amended Notice of Meeting

Notice is hereby given of a change in the meeting of the Center for Scientific Review Special Emphasis Panel NIH Research Enhancement Award (AREA and REAP) (R15), March 03, 2020, 12:00 p.m. to March 03, 2020, 05:00 p.m., which was published in the Federal Register on February 05, 2020, 85 FR 6567.

The meeting start date is being changed to April 20, 2020 start time 12:00 p.m. and ending April 21, 2020 05:00 p.m. The meeting format is being changed to Virtual Meeting. The location remains the same. The meeting is closed to the public.

Dated: February 5, 2020.
Ronald J. Livingston, Jr.,
Program Analyst, Office of Federal Advisory Committee Policy.

[FR Doc. 2020-02638 Filed 2-10-20; 8:45 am]

BILLING CODE 4140-01-P